DEPARTMENT OF TRANSPORTATION

Office of the Secretary

Aviation Proceedings, Agreements Filed the Week Ending February 17, 2006

The following Agreements were filed with the Department of Transportation under the sections 412 and 414 of the Federal Aviation Act, as amended (49 U.S.C. 1382 and 1384) and procedures governing proceedings to enforce these provisions. Answers may be filed within 21 days after the filing of the application.

Docket Number: OST-2006-23964.

Date Filed: February 14, 2006.

Parties: Members of the International Air Transport Association.

Subject:

TC12 Passenger Tariff Coordinating Conferences.

TC12 Mexico-Europe Resolutions (Memo 0078).

Minutes: PTC12 MEX-EUR 0079.

Tables: PTC12 MEX-EUR Fares 0036.

Mexico-Europe Specified Fares Tables.

Intended effective date: 1 April 2006.

Docket Number: OST-2006-23968.

Date Filed: February 15, 2006.

Parties: Members of the International Air Transport Association.

Subject:

TC12 South Atlantic-Europe Resolutions Memo 0140.

Minutes: PTC12 SATL-EUR 0141.

Tables: PTC12 SATL-EUR 0045.

South Atlantic Europe Specified Fares Tables.

Intended effective date: 1 April 2006.

Docket Number: OST-2006-23969.

Date Filed: February 15, 2006.

Parties: Members of the International Air Transport Association.

Subject:

TC12 Mid Atlantic-Europe Expedited Resolution.

002by Memo 0105 r1.

Intended effective date: 15 March 2006.

Docket Number: OST-2006-23970.

Date Filed: February 15, 2006.

Parties: Members of the International Air Transport Association.

Subject:

PTC COMP Mail Vote 473.

Resolution 011a.

Mileage Manual Non TC Member/Non IATA Carrier Sectors.

Intended effective date: 17 February 2006 Implementaton 1 April 2006.

Docket Number: OST-2006-23991.

Date Filed: February 16, 2006.

Parties: Members of the International Air Transport Association.

Subject:

TC12 Mid Atlantic-Europe Resolution (Memo 0103).

Minutes: TC12 Mid, South Atlantic-Europe Minutes (Memo 0104).

Tables: TC12 Mid, South Atlantic-Europe (Memo 044).

Specified fare tables.

Intended effective date: 1 April 2006.

Renee V. Wright,
Program Manager, Docket Operations, Federal Register Liaison.

[FR Doc. E6-3335 Filed 3-8-06; 8:45 am]

BILLING CODE 4910-62-P